DEPARTMENT OF TRANSPORTATION

Office of the Secretary

Aviation Proceedings, Agreements Filed the Week Ending January 6, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-23557.

Date Filed: January 6, 2006.

Parties: Members of the International Air Transport Association.

Subject: TC31 North and Central Pacific Bangkok, 24 October-1 November 2005,

TC31 North and Central Pacific, Korea (Rep. of), Malaysia—USA Resolutions.

Intended effective date: 1 April 2006 (Memo 0345), Minutes TC31/TC123 Passenger Tariff Coordinating Conference, Bangkok, 24 October-1 November 2005, TC31 North and Central Pacific Minutes (Memo 0349).

Docket Number: OST-2006-23568.

Date Filed: January 6, 2006.

Parties: Members of the International Air Transport Association.

Subject: TC31 Passenger Tariff Coordinating Conferences, Bangkok, 24 October-1 November 2005, TC31 North and Central Pacific Areawide Resolutions.

Intended effective date: 1 April 2006 (Memo 0334), Minutes TC31/TC123 Passenger Tariff Coordinating Conference, Bangkok, 24 October-1 November 2005, TC31 North and Central Pacific Minutes (Memo 0349).

Docket Number: OST-2006-23571.

Date Filed: January 6, 2006.

Parties: Members of the International Air Transport Association.

Subject: TC31 Circle Pacific, Bangkok, 24 October-1 November 2005, TC31 Circle Pacific.

Intended effective date: 1 April 2006 (Memo 0333), Minutes TC31/TC123 Passenger Tariff Coordinating Conference Bangkok, 24 October-1 November 2005, TC31 North and Central Pacific Minutes (Memo 0349).

Docket Number: OST-2006-23572.

Date Filed: January 6, 2006.

Parties: Members of the International Air Transport Association.

Subject: PTC2 Mail Vote 472, Special Amending Resolution 010d, From France to Europe.

Intended effective date: 15 January 2006 (Memo 0623).

Renee V. Wright,
Program Manager, Docket Operations, Federal Register Liaison.

[FR Doc. E6-1409 Filed 2-1-06; 8:45 am]

BILLING CODE 4910-62-P